DEPARTMENT OF THE INTERIOR

Fish and Wildlife Service

[FWS-R8-ES-2018-N170; FXES 11140800000-190-FF 08EYRE00]

Notice of Availability for the Butte Creek Ranch Safe Harbor Agreement for the Northern Spotted Owl and Gray Wolf, Siskiyou County, California; Categorical Exclusion

AGENCY: Fish and Wildlife Service, Interior.

ACTION: Notice of availability and receipt of application.

SUMMARY: This notice advises the public that members of the Hart Family 2003 Trust (applicant) have applied to the Fish and Wildlife Service for a 50-year enhancement of survival permit under the Endangered Species Act. If granted, the permit will authorize the take of both the northern spotted owl and the gray wolf that may occur incidental to land management activities in connection with ongoing livestock grazing and forest management operations that can restore, enhance, or maintain habitat for the species on the Butte Creek Ranch in Siskiyou County, California. The documents available for review and comment are the applicant's safe harbor agreement and our draft environmental action statement, supporting a categorical exclusion under the National Environmental Policy Act. We invite comments from the public and Federal, Tribal, State, and local governments.

DATES: Submitting Comments: To ensure consideration, we must receive written comments by 5 p.m. on May 8, 2019.

ADDRESSES: You may submit written comments by any one of the following methods.

• U.S. Mail or Hand-Delivery: Jenny Ericson, Field Supervisor, U.S. Fish and Wildlife Service, 1829 South Oregon Street, Yreka, CA 97520.

• Electronic mail: fw8_yfwo_comments@fws.gov. In the subject line of the email, include “Butte Creek Ranch SHA.”

• Fax: 530-842-4517.

Obtaining Documents: You may obtain the applicant's safe harbor agreement and our draft environmental action statement by one of the following methods.

• U.S. Mail: See address above.

• In Person: Copies of the draft SHA and environmental action statement are available for public inspection during regular business hours at the Yreka Fish and Wildlife Office (address above).

• Internet: www.fws.gov/yreka.

FOR FURTHER INFORMATION CONTACT: Jenny Ericson, at our Yreka office (address above), by telephone at 530-841-3115, or via the Federal Relay Service at 800-877-8339.

SUPPLEMENTARY INFORMATION: We, the Fish and Wildlife Service (Service), have received an application from members of the Hart Family 2003 Trust (applicant) for a 50-year enhancement of survival permit (permit) under the Endangered Species Act of 1973, as amended (ESA; 16 U.S.C. 1531 et seq.). If granted, the permit will authorize the take of both the northern spotted owl (Strix occidentalis caurina) and the gray wolf (Canis lupus) that may occur incidental to land management activities in connection with ongoing livestock grazing and forest management operations that can restore, enhance, or maintain habitat for the species on the Butte Creek Ranch in Siskiyou County, California. The documents available for review and comment are the applicant's safe harbor agreement (SHA) and our draft environmental action statement (EAS), which supports a categorical exclusion under the National Environmental Policy Act (NEPA; 42 U.S.C. 4321 et seq.). We invite comments from the public and Federal, Tribal, State, and local governments.

Background

Under SHAs, participating landowners voluntarily undertake management activities on their properties to enhance, restore, or maintain habitat to benefit species listed under the ESA. SHAs, and the subsequent enhancement of survival permit issued pursuant to section 10(a)(1)(A) of the ESA, encourage private and other non-Federal property owners to implement conservation efforts for listed species by assuring property owners that they will not be subject to increased land use restriction as a result of efforts to attract or increase the numbers or distribution of a listed species on their property. Application requirements and issuance criteria for enhancement of survival permits through SHAs are found in 50 CFR 17.22(c) and 17.32(c).

Application: Butte Creek Ranch Safe Harbor Agreement

Members of the Hart Family 2003 Trust have applied for a 50-year enhancement of survival permit under section 10(a)(1)(A) of the ESA for the Butte Creek Ranch. The permit addresses incidental take of the northern spotted owl and gray wolf that may occur during ongoing livestock grazing and forest management operations on approximately 3,468 acres of forestland owned by the applicant.

The Butte Creek Ranch is managed under an existing conservation easement (easement) that ensures preservation and protection of the property in perpetuity. Easement restrictions on management activities are incorporated into the SHA as conservation measures to benefit and contribute to the recovery of the northern spotted owl and gray wolf.

Northern spotted owls have not been detected on or adjacent to the property, although forest management activities may lead to their presence in the future. If northern spotted owls occupy the property during the permit term, covered activities are expected to result in the incidental take of a maximum of 10 juveniles and two adults during periodic timber harvest. The baseline habitat conditions for northern spotted owl on the property are estimated to be 65 acres of nesting/roosting habitat and 1,045 acres of foraging habitat. The SHA will increase the baseline for northern spotted owls by retaining habitat elements (e.g., snags, large old trees) and developing and perpetually maintaining forests that are older and structurally more complex than that which currently exists. The SHA will achieve a net conservation benefit for northern spotted owl by increasing the amount of suitable habitat over the permit term and by managing the threats of barred owl and unnaturally severe wildfire. The take avoidance measures in the SHA will minimize the potential for incidental take through surveys and seasonal timing restrictions prior to any timber operations in suitable habitat.

Wolves have been documented using the Butte Creek Ranch and will likely continue to use the property in the future because the current level of human activity, including road use and construction, is not expected to increase under the SHA. The covered activities are expected to result in the incidental take of a maximum of 15 juvenile wolves over the permit term if cattle operations or forest management activities occur near an active den or rendezvous site, which may lead to abandonment of the site or of young. The monitoring of wolf activity and the wolf protection measures in the SHA will minimize the potential for incidental take. The SHA will achieve a net conservation benefit and increase the baseline for wolves by maintaining an area of limited human disturbance, improving deer and elk habitat, and using livestock husbandry practices to avoid livestock and wolf conflict. Because the property will be managed under the SHA to be a secure and relatively undisturbed location, it will provide habitat for dispersing wolves and may potentially become part of an established territory that supports a wolf pack.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the ESA (16 U.S.C. 1531 et seq.) and its implementing regulations (50 CFR 17.22 and 17.32) and NEPA (42 U.S.C. 4321 et seq.) and its implementing regulations (40 CFR 1506.6 and 43 CFR 46.305).

Jenny Ericson,
Field Supervisor, Yreka Fish and Wildlife Office, Yreka, California.

[FR Doc. 2019-06891 Filed 4-5-19; 8:45 am]

BILLING CODE 4333-15-P